DEPARTMENT OF ENERGY

Federal Energy Regulatory Commission

Combined Notice of Filings #1

Take notice that the Commission received the following electric rate filings:

Docket Numbers: ER12-2310-001.

Applicants: Zephyr Wind, LLC.

Description: Amendment to Pending 1 to be effective 9/25/2012.

Filed Date: 9/14/12.

Accession Number: 20120914-5125.

Comments Due: 5 p.m. ET 10/5/12.

Docket Numbers: ER12-2629-000.

Applicants: Northern States Power Company, a Wisconsin corporation.

Description: 2012-9-14 DPC Const Agrmt NOC_290-NSPW to be effective 11/14/2012.

Filed Date: 9/14/12.

Accession Number: 20120914-5123.

Comments Due: 5 p.m. ET 10/5/12.

Docket Numbers: ER12-2630-000.

Applicants: Noble Americas Energy Solutions LLC.

Description: Errata to MBR tariff re Seller Category to be effective 11/1/2010.

Filed Date: 9/14/12.

Accession Number: 20120914-5129.

Comments Due: 5 p.m. ET 10/5/12.

Docket Numbers: ER12-2631-000.

Applicants: Pacific Wind Lessee, LLC, Catalina Solar, LLC.

Description: Shared Transmission Facilities Agreement of Pacific Wind Lessee LLC & Catalina Solar LLC to be effective 11/15/2012.

Filed Date: 9/14/12.

Accession Number: 20120914-5130.

Comments Due: 5 p.m. ET 10/5/12.

Docket Numbers: ER12-2632-000.

Applicants: Pacific Gas and Electric Company.

Description: E&P Agreement for SKIC Solar, LLC to be effective 9/17/2012.

Filed Date: 9/14/12.

Accession Number: 20120914-5131.

Comments Due: 5 p.m. ET 10/5/12.

Docket Numbers: ER12-2633-000.

Applicants: Catalina Solar, LLC.

Description: Catalina Solar Concurrence to Shared Transmission Facilities Agreement to be effective 11/15/2012.

Filed Date: 9/14/12.

Accession Number: 20120914-5133.

Comments Due: 5 p.m. ET 10/5/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 17, 2012.
Nathaniel J. Davis, Sr.,
Deputy Secretary.

[FR Doc. 2012-23526 Filed 9-24-12; 8:45 am]

BILLING CODE 6717-01-P